DEPARTMENT OF DEFENSE

Office of the Secretary

[Transmittal Nos. 12-08]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-08 with attached transmittal, policy justification, and Sensitivity of Technology.

Dated: June 19, 2012.
Aaron Siegel,
Alternate OSD Federal Register Liaison Officer, Department of Defense.

BILLING CODE 5001-06-P

BILLING CODE 5001-06-C

Transmittal No. 12-08

Notice of Proposed Issuance of Letter of Offer Pursuant to Section 36(b)(1) of the Arms Export Control Act, as Amended

(i) Prospective Purchaser: Qatar

(ii) Total Estimated Value:

Major Defense Equipment* | $.751 billion
Other | .361 billion
Total | 1.112 billion
* As defined in Section 47(6) of the Arms Export Control Act.

(iii) Description and Quantity or Quantities of Articles or Services under Consideration for Purchase: 12 UH-60M BLACK HAWK Utility Helicopters, 26 T700-GE-701D Engines (24 installed and 2 spares), 15 AN/AAR-57(V)7 Common Missile Warning Systems, 15 AN/AVR-2B Laser Detecting Sets, 15 AN/APR-39A(V)4 Radar Signal Detecting Sets, 26 M240H Machine Guns, and 26 AN/AVS-6 Night Vision Goggles. Also included are M206 infrared countermeasure flares, M211 and M212 Advanced Infrared Countermeasure Munitions (AIRCM) flares, M134D-H Machine Guns, system integration and air worthiness certification, simulators, generators, transportation, wheeled vehicles and organization equipment, spare and repair parts, support equipment, tools and test equipment, technical data and publications, personnel training and training equipment, U.S. government and contractor engineering, technical, and logistics support services, and other related elements of logistics support.

(iv) Military Department: Army (WYZ).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 12 June 2012.

Policy Justification

Qatar—UH-60M BLACK HAWK Helicopters

The Government of Qatar has requested a possible sale of 12 UH-60M BLACK HAWK Utility Helicopters, 26 T700-GE-701D Engines (24 installed and 2 spares), 15 AN/AAR-57(V)7 Common Missile Warning Systems, 15 AN/AVR-2B Laser Detecting Sets, 15 AN/APR-39A(V)4 Radar Signal Detecting Sets, 26 M240H Machine Guns, and 26 AN/AVS-6 Night Vision Goggles. Also included are M206 infrared countermeasure flares, M211 and M212 Advanced Infrared Countermeasure Munitions (AIRCM) flares, M134D-H Machine Guns, system integration and air worthiness certification, simulators, generators, transportation, wheeled vehicles and organization equipment, spare and repair parts, support equipment, tools and test equipment, technical data and publications, personnel training and training equipment, U.S. government and contractor engineering, technical, and logistics support services, and other related elements of logistics support. The estimated cost is $1.112 billion.

This proposed sale will contribute to the foreign policy and national security of the United States by helping to improve the security of a friendly country that has been, and continues to be, an important force for political and economic progress in the Middle East. Qatar is host to the U.S. AFCENT forces and serves as a critical forward-deployed location in the region.

The proposed sale of the UH-60M BLACK HAWK helicopters will improve Qatar's capability to meet current and future threats and provide greater security for its critical oil and natural gas infrastructure, and significant national events. Qatar will use the enhanced capability to strengthen its homeland defense. Qatar will have no difficulty absorbing these helicopters into its armed forces.

The proposed sale of this equipment and support will not alter the basic military balance in the region.

The prime contractors will be Sikorsky Aircraft Company in Stratford, Connecticut, and General Electric Aircraft Company in Lynn, Massachusetts. There are no known offset agreements proposed in connection with this potential sale.

Implementation of this proposed sale will require the assignment of two contractor representatives to Qatar for a minimum of three years to support delivery of the helicopters and provide support and equipment familiarization. In addition, Qatar has expressed an interest in a Technical Assistance Fielding Team for in-country pilot and maintenance training. To support the requirement, a team of 12 personnel (one military team leader and 11 contractors) would be deployed to Qatar for approximately three years.

There will be no adverse impact on U.S. defense readiness as a result of this proposed sale.

Transmittal No. 12-08

Notice of Proposed Issuance of Letter of Offer Pursuant to Section 36(b)(1) of the Arms Export Control Act

Annex

Item No. vii

(vii) Sensitivity of Technology:

1. The UH-60M BLACK HAWK Helicopter weapon system contains communications and target identification equipment, navigation equipment, aircraft survivability equipment, displays, and sensors. The airframe itself does not contain sensitive technology; however, the pertinent equipment listed below will be either installed on the aircraft or included in the sale:

a. The AN/AAR-57(V)7 Common Missile Warning System (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). The ECU hardware is classified Confidential; releasable technical manuals for operation and maintenance are classified Secret.

b. The AN/APR-39A(V)4 Radar Signal Detecting Set is a system that provides warning of a radar directed air defense threat to allow appropriate countermeasures. This is the 1553 databus compatible configuration. The hardware is classified Confidential when programmed with U.S. threat data; releasable technical manuals for operation and maintenance are classified Confidential; releasable technical data (technical performance) is classified Secret.

c. The AN/AVR-2B Laser Warning Set is a passive laser warning system that receives, processes and displays threat information resulting from aircraft illumination by lasers. The hardware is classified Confidential; releasable technical manuals for operation and maintenance are classified Secret.

d. The M211 flare is a countermeasure decoy in a 1″x1″x8″ form factor in an aluminum case cartridge. It consists of case, piston, special material payload foils, and end cap. The special material is a pyrophoric metal (iron) foil that reacts with oxygen to generate infrared energy. The M211 decoys are dispersed from an aircraft to be used as a decoy in combination with the currently fielded M206 and M212 countermeasure flares to protect against advanced air-to-air and surface-to-air missile threats. The hardware is Unclassified and releasable technical manuals for operation and maintenance are classified Secret.

e. The M212 flare is a multi-spectral countermeasure flare in a 1″x1″x8″ form factor in an aluminum case cartridge. It consists of a case, impulse cartridge, Safe and Ignition (S&I), a propellant grain and a forward brass closure which acts as a weight to improve aerodynamics of the decoy. The M212 flares are dispersed from an aircraft and used in combination with the currently fielded M206 and M211 countermeasure flares and decoys to protect against advanced air-to-air and surface-to-air missile threats. The hardware is Unclassified and releasable technical manuals for operation and maintenance are classified Secret.

2. If a technologically advanced adversary were to obtain knowledge of the specific hardware and software elements, the information could be used to develop countermeasures that might reduce weapon system effectiveness or be used in the development of a system with similar or advanced capabilities.

[FR Doc. 2012-15359 Filed 6-22-12; 8:45 am]

BILLING CODE 5001-06-P